DEPARTMENT OF ENERGY

Federal Energy Regulatory Commission

[Project No. 6885-009]

Richard Moss; Notice of Application Ready for Environmental Analysis and Soliciting Comments, Recommendations, Terms and Conditions, and Prescriptions

December 23, 2008.

Take notice that the following hydroelectric application has been filed with the Commission and is available for public inspection.

a. Type of Application: A Subsequent License. (Minor Project).

b. Project No.: 6885-009.

c. Date filed: December 31, 2007.

d. Applicant: Richard Moss.

e. Name of Project: Cinnamon Ranch Hydroelectric Project.

f. Location: On Middle Creek and Birch Creek, in the Hammil Valley area of Mono County, near the Town of Benton, California. The project occupies 0.13 acre of Forest Service lands within Inyo National Forest and 7.4 acres of lands administered by the Bureau of Land Management.

g. Filed Pursuant to: Federal Power Act 16 U.S.C. 791 (a)-825(r).

h. Applicant Contact: Don Moss, 8381 Foppiano Way, Sacramento, CA 95829, (916) 715-6023.

i. FERC Contact: Gaylord Hoisington, (202) 502-6032 or gaylord.hoisington@FERC.gov.

j. Deadline for filing comments, recommendations, terms and conditions, and prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted, and is ready for environmental analysis at this time.

l. The existing operating project was built in 1960 and has been furnishing electric power to the Cinnamon ranch since that time. The project consists of: (1) Two existing diversion flumes; (2) a 5,940-foot-long penstock; (3) a powerhouse containing a turbine and generator for a total installed capacity of 150 kilowatts; (4) a 5,176-foot-long, 12 kilvolt transmission line and (5) appurtenant facilities. The applicant proposes no changes to the project facilities or operations. The project is estimated to generate an average of 421,184 kilowatt-hours annually.

The existing project operates run-of-river, with no peaking capabilities. Two small diversions, one on Birch Creek and one on Middle Creek provide water through open ditches to a 3.57-acre-foot de-silting pond. In the de-silting pond, a screened stand pipe functions as the intake for the 12-inch-diameter, 5,940-foot-long steel penstock. Water from the turbine tailrace is delivered directly into the Cinnamon Ranch irrigation system.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

Kimberly D. Bose,
Secretary.

[FR Doc. E8-31108 Filed 12-30-08; 8:45 am]

BILLING CODE 6717-01-P